DEPARTMENT OF COMMERCE

Office of the Secretary

Agency Information Collection Activities; Submission to the Office of Management and Budget (OMB) for Review and Approval; Comment Request; Generic Clearance for Requests for Meetings and Registrations for Events and Conferences

AGENCY: Office of the Secretary, Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before February 27, 2023.

ADDRESSES: Interested persons are invited to submit written comments to the Department Paperwork Reduction Act Clearance Officer, Department of Commerce, Room 6616, 14th and Constitution Avenue NW, Washington, DC 20230 or via the internet at PRAcomments@doc.gov. All comments received are part of the public record. Comments will generally be posted without change. Please reference OMB Control Number 0690-0030 in the subject line of your comments. Do not submit Confidential Business Information or otherwise sensitive or protected information.

FOR FURTHER INFORMATION CONTACT: Requests for additional information or copies of the information collection instrument and instructions should be directed to S. Dumas, DOC PRA Clearance Officer, Office of Policy and Governance, 14th and Constitution Avenue NW, Room 6616, Washington, DC 20230 (202) 482-3306 or at PRAcomments@doc.gov.

SUPPLEMENTARY INFORMATION:

I. Abstract

This is a request for a new information collection.

This collection of information is needed to obtain information from the respondents who request meetings or appearances with Senior Officials or those who register to participate in DOC events, and conferences. The information is collected by the DOC employees who host the conferences and events, and those who manage calendars for Senior personnel. DOC is collecting common elements from interested respondents such as name, organization, address, country, phone number, email address, state, city or town, special accommodations requests and how the respondent learned of the event or conference. The information collection element may also include race, ethnicity, gender and veteran status, and other relevant information. The information is primarily used to assess attendance and assist DOC staff in preparations to serve individuals registering for online or in person events. If applicable, the information collection may be used to collect payment from the respondents and make hotel reservations and other special arrangements as necessary. Race, ethnicity, gender, and other demographic information obtained through registration is voluntary, and is used to monitor DOC's outreach and engagement of equity and support for underserved communities. This information is not used to evaluate any DOC program application and choosing not to provide this information will not affect the application process for any individual applying to a DOC program.

II. Method of Collection

Information on this form will be collected using a paper format or electronically and requires the victim's signature either by ink pen or CAC.

III. Data

OMB Control Number: 0690-XXXX.

Form Number(s): None.

Type of Review: Regular submission, new information collection.

Affected Public: Individuals, Business or other for-profit, non-for-profit institutions, Federal Government, State, Local, or Tribal Government.

Estimated Number of Respondents: 300,000.

Estimated Time per Response: 5 to 30 minutes.

Estimated Total Annual Burden Hours: 90,000.

Estimated Total Annual Cost to Public: nominal.

Respondent's Obligation: Voluntary.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-28260 Filed 12-27-22; 8:45 am]

BILLING CODE 3510-17-P